DEPARTMENT OF ENERGY

Federal Energy Regulatory Commission

[Docket No. IC22-2-000]

Commission Information Collection Activities (Ferc-732) Comment Request; Extension

AGENCY: Federal Energy Regulatory Commission, Department of Energy.

ACTION: Notice of information collection and request for comments.

SUMMARY: In compliance with the requirements of the Paperwork Reduction Act of 1995, the Federal Energy Regulatory Commission (Commission or FERC) is soliciting public comment on the currently approved information collection, FERC-732, (Electric Rate Schedule and Tariffs: Long-Term Firm Transmission Rights in Organized Electricity Markets), which will be submitted to the Office of Management and Budget (OMB) for review. The Commission issued a 60-day notice on November 15, 2021 requesting public comments; no comments were received.

DATES: Comments on the collection of information are due February 25, 2022.

ADDRESSES: Send written comments on FERC-732 to OMB through www.reginfo.gov/public/do/PRAMain. Attention: Federal Energy Regulatory Commission Desk Officer. Please identify the OMB Control Number (1902-0245) in the subject line of your comments. Comments should be sent within 30 days of publication of this notice to www.reginfo.gov/public/do/PRAMain.

Please submit copies of your comments to the Commission. You may submit copies of your comments (identified by Docket No. IC22-2-000) by one of the following methods:

Electronic filing through http://www.ferc.gov, is preferred.

• Electronic Filing: Documents must be filed in acceptable native applications and print-to-PDF, but not in scanned or picture format.

• For those unable to file electronically, comments may be filed by USPS mail or by hand (including courier) delivery.

○ Mail via U.S. Postal Service Only: Addressed to: Federal Energy Regulatory Commission, Secretary of the Commission, 888 First Street NE, Washington, DC 20426.

○ Hand (including courier) delivery: Deliver to: Federal Energy Regulatory Commission, 12225 Wilkins Avenue, Rockville, MD 20852.

Instructions: OMB submissions must be formatted and filed in accordance with submission guidelines at www.reginfo.gov/public/do/PRAMain. Using the search function under the “Currently Under Review” field, select Federal Energy Regulatory Commission; click “submit,” and select “comment” to the right of the subject collection.

FERC submissions must be formatted and filed in accordance with submission guidelines at: http://www.ferc.gov. For user assistance, contact FERC Online Support by email at ferconlinesupport@ferc.gov, or by phone at: (866) 208-3676 (toll-free).

Docket: Users interested in receiving automatic notification of activity in this docket or in viewing/downloading comments and issuances in this docket may do so at https://www.ferc.gov/ferc-online/overview.

FOR FURTHER INFORMATION CONTACT: Ellen Brown may be reached by email at DataClearance@FERC.gov, telephone at (202) 502-8663.

SUPPLEMENTARY INFORMATION:

1. FERC-732

Title: FERC-732, Electric Rate Schedule and Tariffs: Long-Term Firm Transmission Rights in Organized Electricity Markets

OMB Control No.: 1902-0245.

Type of Request: Three-year extension of the FERC-732 information collection requirement with no changes to the current reporting requirements.

Abstract: 18 CFR part 42 provides the reporting requirements of FERC-732 as they pertain to long-term transmission rights. To implement section 1233 ¹ of the Energy Policy Act of 2005 (EPAct 2005),² the Commission requires each transmission organization that is a public utility with one or more organized electricity markets to make available long-term firm transmission rights that satisfy each of the Commission's guidelines.³

¹ 16 U.S.C. 824.

² 16 U.S.C. 824q.

³ 18 CFR 42.1(d).

The FERC-732 regulations require that transmission organizations (that are public utilities with one or more organized electricity markets) choose one of two ways to file:

• File tariff sheets making long-term firm transmission rights available that are consistent with each of the guidelines established by FERC.

• File an explanation describing how their existing tariffs already provide long-term firm transmission rights that are consistent with the guidelines.

Additionally, the Commission requires each transmission organization to make its transmission planning and expansion procedures and plans available to the public. FERC-732 enables the Commission to exercise its wholesale electric rate and electric power transmission oversight and enforcement responsibilities in accordance with the FPA, the Department of Energy Organization Act (DOE Act), and EPAct 2005.

Type of Respondents: Public utility with one or more organized electricity markets

Estimate of Annual Burden: ⁴ The Commission estimates the total burden and cost ⁵ for this information collection as follows.

⁴ Burden is defined as the total time, effort, or financial resources expended by persons to generate, maintain, retain, or disclose or provide information to or for a Federal agency. For further explanation of what is included in the information collection burden, refer to 5 CFR 1320.3.

⁵ FERC staff estimates that industry costs for salary plus benefits are similar to Commission costs. The FERC 2021 average salary plus benefits for one FERC full-time equivalent (FTE) is $180,703/year (or $87.00/hour) posted by the Bureau of Labor Statistics for the Utilities sector (available at https://www.bls.gov/oes/current/naics3_221000.htm).

FERC-732—Electric Rate Schedules and Tariffs: Long-Term Firm Transmission Rights in Organized Electricity Markets
| Number of respondents | Annual number of responses per respondent | Total number of responses | Total annual burden hours and total annual cost ($) | Cost per respondent ($)
| (1) | (2) | (1) * (2) = (3) | (3) * (4) = (5) | (5) ÷ (1)
Public utility with one or more organized electricity markets | 1 | 1 | ⁶ 1 | 1,180 hrs.; $102,660 | $102,660

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

⁶ The “1” Tariff filing is a placeholder for future fillers.

Dated: January 20, 2022.
Kimberly D. Bose,
Secretary.

[FR Doc. 2022-01523 Filed 1-25-22; 8:45 am]

BILLING CODE 6717-01-P